DEPARTMENT OF DEFENSE

Defense Acquisition Regulations System

48 CFR Parts 202, 212, 215, 234, 239, and 252

[Docket DARS-2016-0028]

RIN 0750-AJ01

Defense Federal Acquisition Regulation Supplement: Procurement of Commercial Items (DFARS Case 2016-D006); Extension of Comment Period

AGENCY: Defense Acquisition Regulations System, Department of Defense (DoD).

ACTION: Proposed rule; extension of comment period.

SUMMARY: DoD is proposing to amend the Defense Federal Acquisition Regulation Supplement (DFARS) to implement sections of the National Defense Authorization Acts for Fiscal Years 2013 and 2016 relating to commercial item acquisitions. The comment period on the proposed rule is extended 30 days.

DATES: The comment period for the proposed rule published on August 11, 2016 (81 FR 53101), is extended. Comments are due by November 10, 2016.

ADDRESSES: Submit comments identified by DFARS Case 2016-D006, using any of the following methods:

○ Federal eRulemaking Portal: http://www.regulations.gov. Search for “DFARS Case 2016-D006.” Select “Comment Now” and follow the instructions provided to submit a comment. Please include “DFARS Case 2016-D006” on any attached documents.

○ Email: osd.dfars@mail.mil. Include DFARS Case 2016-D006 in the subject line of the message.

○ Fax: 571-372-6094.

○ Mail: Defense Acquisition Regulations System, Attn: Mr. Mark Gomersall, OUSD(AT&L)DPAP/DARS, Room 3B941, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Mr. Mark Gomersall, telephone 571-372-6099.

SUPPLEMENTARY INFORMATION:

I. Background

On August 11, 2016, DoD published a proposed rule in the Federal Register at 81 FR 53101 to implement the requirements of sections 851 through 853 and 855 through 857 of the National Defense Authorization Act (NDAA) for Fiscal Year (FY) 2016 (Pub. L. 114-92, enacted November 25, 2015), as well as the requirements of section 831 of the NDAA for FY 2013 (Pub. L. 112-239, enacted January 2, 2013), relating to the procurement of commercial items. The proposed rule also provides guidance to contracting officers to promote consistency and uniformity in the acquisition process.

The comment period for the proposed rule is extended 30 days, from October 11, 2016, to November 10, 2016, to provide additional time for interested parties to comment on the proposed DFARS changes.

List of Subjects in 48 CFR Parts 202, 212, 215, 234, 239, and 252

Government procurement.

Jennifer L. Hawes,
Editor, Defense Acquisition Regulations System.

[FR Doc. 2016-24370 Filed 10-7-16; 8:45 am]

BILLING CODE 5001-06-P